DEPARTMENT OF HOUSING AND URBAN DEVELOPMENT

[Docket No. FR-5681-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202) 401-0787; Air Force: Mr. Robert Moore, Air Force Real Property Agency, 2261 Hughes Avenue, Suite 156, Lackland AFB, TX, 78236-9852, (210) 395-9512; Army: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; Interior: Mr. Michael Wright, Acquisition & Property Management, Department of the Interior, 1801 Pennsylvania Ave. NW., 4th Floor, Washington, DC 20006: (202) 254-5522; NASA:Mr. Frank T. Bellinger, Facilities Engineering Division, National Aeronautics & Space Administration, Code JX, Washington, DC 20546, (202) 358-1124; Navy: Mr. Steve Matteo, Department of the Navy, Asset Management Division, Naval Facilities Engineering Command, Washington Navy Yard, 1330 Patterson Ave. SW., Suite 1000, Washington, DC 20374; (202) 685-9426; (These are not toll-free numbers).

Dated: May 30, 2013.
Mark Johnston,
Deputy Assistant Secretary for Special Needs.

TITLE V, FEDERAL SURPLUS PROPERTY PROGRAM FEDERAL REGISTER REPORT FOR 06/07/2013

Suitable/Available Properties

Buildings

Alaska

Commercial Lot w/2 Story Structure

412 Washington Ave.

Seward AK 99664

Landholding Agency: GSA

Property Number: 54201320010

Status: Surplus

GSA Number: 9-I-AK-0803AB

Directions: GSA is the disposal agency; NPD/DOII is the landholding agency

Comments: 3,538 sf.; restaurant

Multi-Family Lot

212 Fifth Ave.

Seward AK 99664

Landholding Agency: GSA

Property Number: 54201320014

Status: Surplus

GSA Number: 9-I-AK-0805AB

Directions: Disposal agency: GSA; Landholding agency: NPS/DOII

Comments: 1,070 sf.; residential; fair conditions; mold, asbestos, & lead

Arkansas

DeQueen Lake 44348

706 DeQueen Lake Road

DeQueen AR 71832

Landholding Agency: COE

Property Number: 31201320010

Status: Excess

Comments: Off-site removal only; 260 sf.; public shelter; very poor conditions

Colorado

Ranger Residence & Storage

Cherry Creek Lake Project

Englewood CO 80111

Landholding Agency: COE

Property Number: 31201320006

Status: Excess

Directions: House 52 x 58 = 1,456 sf; storage 52 x 21 = 1,092 sf.

Comments: Off-site removal only; house & shed vacant for 7 yrs.; bldgs., used sporadically since 1959; poor conditions; asbestos; secured area; coordination w/state of CO & Cherry Creek State Park Mng.

Georgia

Building #CSS1

5625 Anderson Hwy

Hartwell GA 30643

Landholding Agency: COE

Property Number: 31201320007

Status: Unutilized

Comments: Off-site removal only; 351.99 sf.; poor conditions;

Hawaii

Bldg. 133 & Antenna Tower 133A

Kamehaine Dr., Waimanalo Ridge

Hawaii Kai HI 96825

Landholding Agency: GSA

Property Number: 54201320012

Status: Surplus

GSA Number: 9-N-HI-811

Directions: Disposal agency: GSA; Landholding agency: Navy

Comments: Off-site removal only; 735 sf. for bldg. 133; poor conditions; contamination present; located w/in secured area; contact GSA for more info.

Illinois

Facility 6803

Outdoor Playing Court

Great Lakes IL 60088

Landholding Agency: Navy

Property Number: 77201320003

Status: Unutilized

Comments: Off-site removal for basketball equipment; vacant since September 2011; contact Navy for more details

Iowa

Storage Shed

Prairie Ridge Park

Rathbun Lake

Mystic IA 52574

Landholding Agency: COE

Property Number: 31201320015

Status: Unutilized

Comments: Off-site removal only; 80 sf; one plus months vacant; deteriorated

Storage Shed

Rolling Cove Park

Mystic IA 52574

Landholding Agency: COE

Property Number: 31201320016

Status: Unutilized

Comments: Off-site removal only; 80 sf; one plus months vacant;

Bridge View Park

null

Mystic IA 52594

Landholding Agency: COE

Property Number: 31201320017

Status: Unutilized

Comments: Off-site removal only; 80 sf; one plus months vacant; deteriorated

Storage Shed

Buck Breek Area

Mystic IA 52594

Landholding Agency: COE

Property Number: 31201320018

Status: Unutilized

Comments: Off-site removal only; 80 sf; one plus months vacant; deteriorated.

Kansas

Marion Reservoir

2105 N Pawnee

Marion KS 66861

Landholding Agency: COE

Property Number: 31201320002

Status: Unutilized

Directions: 43407, 43408, 43414, 43415, 43354

Comments: Off-site removal; sf varies. extremely poor conditions due to age & exposure to weather elements; contact COE for more information.

Council Grove Lake

945 Lake Road

Council Grove KS 66846

Landholding Agency: COE

Property Number: 31201320012

Status: Unutilized

Directions: 44628, 44651, 44652, 44576, 44577, 44620, 44623, 44639, 44640, 44634, 44624, 44688, 44689, 44691, 44614, 44616

Comments: Off-site removal only; size varies, moderate conditions; restricted access; contact COE for more information

Maine

Two Trailers

Acadia Nat'l Park

Bar Harbor ME 04609

Landholding Agency: Interior

Property Number: 61201320020

Status: Unutilized

Comments: Off-site removal only; removal may be difficult; 768 sf. for each; residential; 15 yrs. vacant; repairs a must; contact Interior for more details

Maryland

Tract 101-09; Toll House

Monocracy Nat'l Battlefield

Fredrick MD 21703

Landholding Agency: Interior

Property Number: 61201320021

Status: Excess

Comments: Off-site removal only; relocation may be difficult; 1,080 sf.; 10+ yrs. vacant; very poor conditions; contact Interior for more details

Montana

Abbott Bay Toilet

Flathead National Forest

Flathead MT

Landholding Agency: Agriculture

Property Number: 15201320021

Status: Excess

Directions: Infra #5021

Comments: Off-site removal only; 97 sf; located in remote location; deteriorated; abandoned for a number of years.

New Mexico

Building 623515B065

07560 Jornada Experimental Range

Las Cruces NM 88005

Landholding Agency: Agriculture

Property Number: 15201320023

Status: Excess

Comments: 768 sf; plant genetics lab; good condition; located in NM State University.

New York

Building 240

Hill Rd, AFRL Rome Research Site

Rom NY 13441

Landholding Agency: GSA

Property Number: 54201320007

Status: Excess

GSA Number: ny0938

Comments: 134,855 sf; military office & lab bldg.; 10 plus years vacant; significant deterioration; asbestos; access must be coordinated w/local airfoce personnel.

Oklahoma

Pine Creek Lake Office Compound

Rt. 1, Box 400

Valliant OK 74764

Landholding Agency: COE

Property Number: 31201320001

Status: Unutilized

Comments: Off site removal only; 12sf; storage flammable materials, poor conditions.

Eufaula Lake

102 E BK 200 Rd.

Stigler OK 74462

Landholding Agency: COE

Property Number: 31201320003

Status: Unutilized

Directions: 44147, 44152, 44268

Comments: Off-site removal only; sf varies, poor conditions; contact COE for more information.

Keystone Lake

23115 West Wekiwa Road

Sand Springs OK 74063

Landholding Agency: COE

Property Number: 31201320011

Status: Unutilized

Directions: 43568, 43451, 43452, 43567

Comments: Off-site removal only; sf. varies. poor conditions; contact COE for more information.

Eufaula Lake Office

102 E BL 200 Road

Stigler OK 74462

Landholding Agency: COE

Property Number: 31201320014

Status: Unutilized

Comments: Off-site removal only; 24 sf; water well; poor conditions

Pennsylvania

Blue Marsh Lake Former Sewage

1268 Palisades Drive

Leesport PA 19533

Landholding Agency: COE

Property Number: 31201320020

Status: Unutilized

Comments: Off-site removal only; 678 sf; sewage treatment plant; 16 yrs. vacant; repairs/renovations needed.

Texas

Pat Mayse Lake

12 mi North of Paris

Powderly TX 75473

Landholding Agency: COE

Property Number: 31201320004

Status: Unutilized

Directions: 43008, 43007, 43004

Comments: Off-site removal; sf. varies; poor conditions, contact COE for more information.

Water Well House

3800 Comanche Gap Road

Harker Heights TX 76548

Landholding Agency: COE

Property Number: 31201320008

Status: Unutilized

Comments: Off-site removal only; 36 sf. (est.); poor conditions

Water Well House (BN-26674)

6509 Owl Creek Park Rd.

Temple TX 76502

Landholding Agency: COE

Property Number: 31201320009

Status: Unutilized

Comments: Off-site removal only; 36 sf (est.); poor conditions

Pat Mayse Lake

12 mi North of Paris

Powderly TX 75473

Landholding Agency: COE

Property Number: 31201320013

Status: Unutilized

Comments: Off-site removal only; support bldg. for radio tower common; fair conditions; contact Pat Mayse personnel for escort access.

Lake Texoma

351 Corps Road

Denision TX 75020

Landholding Agency: COE

Property Number: 31201320019

Status: Unutilized

Directions: 58096, 58023

Comments: Off-site removal only; poor conditions; contact COE for more info.

Utah

Building 00234

Dugway Proving Ground

Dugway UT 84022

Landholding Agency: Army

Property Number: 21201320046

Status: Underutilized

Comments: Off-site removal only; no future Army use; 3,110 sf.; military housing; 53 yrs.-old; repairs needed; secured area; contact Army for more info.

West Virginia

Tract #105-05

3011 New River Rd.

Hinton WV 25951

Landholding Agency: Interior

Property Number: 61201320007

Status: Excess

Directions: Tommy Ray & Cynthia Mullen's House; Shed #1; Shed #2; carport; Cinder Block Utility Bldg.

Comments: Off-site removal only; relocation may be difficult; sf. varies; 6 yrs. vacant; structurally sound; lead, mold, & asbestos present; contact Interior for more details

Tract #155-29

Rt. 41 nxt. to Prince Post Office

Prince WV 25907

Landholding Agency: Interior

Property Number: 61201320009

Status: Excess

Directions: Hazel Summerville House & Garage

Comments: Off-site removal only; relocation may be difficult; sf. varies; 7 yrs. vacant; overgrown by vegetation; structurally sound; contact Interior for more details

Tract #155-11

Prince St.

Prince WV 25907

Landholding Agency: Interior

Property Number: 61201320010

Status: Excess

Directions: Barbra Wood House & Shed #1

Comments: Off-site removal only; relocation may be difficult; overgrown by vegetation; sf. varies; structurally sound; 5 yrs. vacant; contact Interior for more details

Tract #105-38

2901 New River Rd.

Hinton WV 25951

Landholding Agency: Interior

Property Number: 61201320012

Status: Excess

Directions: Betty Jane Adkins House; Cinder Block Bldg.

Comments: Off-site removal only; relocation may be difficult; sf. varies; 7 yrs. vacant; repairs a must; contact Interior for more details

Tract #161-37; Billy Joe

Adkins House

312 Silverbell Dr.

Terry WV 25864

Landholding Agency: Interior

Property Number: 61201320014

Status: Excess

Comments: Off-site removal only; relocation may be very difficult; overgrown by vegetation; 1,150 sf.; 10 yrs. vacant; repairs a must; contact Interior for more details

New River Gorge Nat'l River

1303 New River Rd.

Hinton WV 25951

Landholding Agency: Interior

Property Number: 61201320015

Status: Excess

Directions: Tract #102-38 Steven & Mary Pat Duncan House; Shed #1; Shed #2

Comments: Off-site removal only; relocation may be difficult; sf. varies; 6 yrs. vacant; structurally sound; contact Interior for more details

New River Gorge Nat'l River

2319 New River Rd.

Hinton WV 25951

Landholding Agency: Interior

Property Number: 61201320017

Status: Excess

Directions: Tract 104-49 (Mr. & Mrs. Herron House); Shed #1; Shed #2; Carport; Cinderblock Bldg.

Comments: Off-site removal only; may be difficult to relocate; sf. varies; 4-6 yrs. vacant; structurally sound; contact Interior for more details

New River Gorge Nat'l River

Misty River Rd./Rt. 27/2

Hinton WV 25951

Landholding Agency: Interior

Property Number: 61201320018

Status: Excess

Directions: Tract 176-06; Glenwood Corp. Cabins #1, #2, & #3

Comments: Off-site removal only; removal may be difficult; sf. varies; 5 yrs. vacant; structurally sound; contact Interior for more details

Tract #161-05

Bobby Harrah House

Lot 9 Silverbell Dr.

Terry WV 25864

Landholding Agency: Interior

Property Number: 61201320019

Status: Excess

Comments: Off-site removal only; relocation may be difficult; residential; 7 yrs. vacant; structurally sound but uninhabitable; repairs a must; contact Interior for more details

Tract 161-17

Johnny & Brenda Adkins House

Lot 51 Silverbell Dr.

Terry WV 25864

Landholding Agency: Interior

Property Number: 61201320022

Status: Excess

Comments: Off-site removal only; may be difficult to relocate due to current conditions; 670 sf.; residential; 10 yrs. vacant; leaking roof/water damage; contact Interior for more info.

Land

Alaska

Commercial Lot

5th Ave. btw. Adams St. & Wash. St.

Seward AK 99664

Landholding Agency: GSA

Property Number: 54201320013

Status: Surplus

GSA Number: 9-I-AK-0802-AB

Directions: Disposal agency: GSA; Landholding agency: NPS/DOII

Comments: Approx. 150′ x 100′ sf.; restaurant

Unsuitable Properties

Buildings

California

3 Buildings

Doolittle, Camp Beale & Grass Valley

Beale CA

Landholding Agency: Air Force

Property Number: 18201320003

Status: Unutilized

Directions: 1299, 3296 & 5775

Comments: Located on base w/controlled access; public access denied & no alter. method w/out compromising nat'l sec.

Reasons: Secured Area

Maryland

Antietam National Battlefield

Tract #04-109; Mumma Farm

18440 Shepardstown Pike

Sharpsburg MD 21782

Landholding Agency: Interior

Property Number: 61201320016

Status: Excess

Comments: Documented deficiencies; structure is collapsing; structurally unsound; any movement will result in entire structure completely collapsing

Reasons: Extensive deterioration

179NS

Halligan Road

Annapolis MD 21401

Landholding Agency: Navy

Property Number: 77201320004

Status: Unutilized

Comments: Public access denied & no alternative method w/out compromising nat'l sec.

Reasons: Secured Area

Montana

Patrol Ridge Common.

null

Flathead MT

Landholding Agency: Agriculture

Property Number: 15201320022

Status: Excess

Directions: Infra #3801

Comments: Inaccessible; requires helicopter transport to access

Reasons: Other—isolated area Not accessible by road

New Jersey

Building 7434

Madison Rd.

JBMDL NJ 08640

Landholding Agency: Air Force

Property Number: 18201320004

Status: Unutilized

Comments: Public access denied & no alternative method to gain access w/out compromising nat'l security

Reasons: Secured Area

Rhode Island

Building 64

1 Simonpietri Dr.

Newport RI 02841

Landholding Agency: Navy

Property Number: 77201320005

Status: Excess

Comments: Public access denied & no alternative method to gain access without compromising Nat'l security

Reasons: Secured Area

Virginia

3 Buildings

West Taylor St.

Hampton VA 23681

Landholding Agency: NASA

Property Number: 71201320003

Status: Unutilized

Directions: 119C, 1192D, & 1192E

Comments: Public access denied & no alternative method to gain access w/out compromising nat'l security

Reasons: Secured Area

Office Facility Bldg. 1229

NASA Langley Research Ctr.

Hampton VA 23681

Landholding Agency: NASA

Property Number: 71201320004

Status: Unutilized

Comments: Public access denied & no alternative method to gain access w/out compromising nat'l security

Reasons: Secured Area

Washington

14 Buildings

3rd Division Drive

JBLM WA 98433

Landholding Agency: Army

Property Number: 21201320045

Status: Unutilized

Directions: 03177, 03174, 03181, 03196, 03173, 03175, 03186, 03189, 03190, 03191, 03193, 03194, 03195, 03197

Comments: Secured military cantonment; public access denied & no alter. method w/out compromising nat'l sec.

Reasons: Secured Area

West Virginia

Tract #128-01; House in Prince

Rail Yard

77 Quinnimont Station Rd.

Prince WV 25907

Landholding Agency: Interior

Property Number: 61201320006

Status: Excess

Comments: Documented deficiencies; bldg. has completely collapsed; structurally unsound; uninhabitable

Reasons: Extensive deterioration

Tract #122-30; Adkins Squatter

House

R/R 7/2 Hump Mountain Rd.

Meadow Creek WV 25977

Landholding Agency: Interior

Property Number: 61201320008

Status: Excess

Comments: Documented deficiencies; completely overgrown by vegetation; bldg. is collapsing; uninhabitable; structurally unsound; any movement will result in complete collapse of bldg.

Reasons: Extensive deterioration

Tract 112-36; James A. Walrath

R/R 7/2 Hump Mountain Rd.

Meadow Creek WV 25977

Landholding Agency: Interior

Property Number: 61201320011

Status: Excess

Comments: Documented deficiencies; bldg. is collapsing; uninhabitable; any movement will result in complete collapse

Reasons: Extensive deterioration

Tract #161-15

Lot 1 & 1A Terry Rd.

Terry WV 25864

Landholding Agency: Interior

Property Number: 61201320013

Status: Excess

Directions: Campbell House & Shed

Comments: Documented deficiencies; bldgs. are collapsing; movement of any kind will result in completely collapse

Reasons: Extensive deterioration

Land

California

Land Parcel II CIVIL. 174-SD

Naval Base

San Diego CA

Landholding Agency: Navy

Property Number: 77201320006

Status: Excess

Comments: Public access denied & no alternative method to gain access w/out compromising nat'l security

Reasons: Secured Area

Louisiana

NASA Michoud Assembly Facility

13800 Old Gentilly Rd.

New Orleans LA

Landholding Agency: GSA

Property Number: 54201320011

Status: Surplus

GSA Number: 7-Z-LA-0427-AB

Directions: GSA is the disposal agency; NASA is the landholding agency

Comments: Four above ground tanks which storages 500+ gallons of flammable materials residing on an adjacent property owned by Delgado Community College who operates a firefighter training school

Reasons: Within 2000 ft. of flammable or explosive material

[FR Doc. 2013-13238 Filed 6-6-13; 8:45 am]

BILLING CODE 4210-67-P